OFFICE OF THE UNITED STATES TRADE REPRESENTATIVE

[Docket Number USTR-2023-0007]

Cancellation of Public Hearing Concerning Russia's Implementation of Its World Trade Organization (WTO) Commitments

AGENCY: Office of the United States Trade Representative (USTR).

ACTION: Notice; cancelation of public hearing.

SUMMARY: The interagency Trade Policy Staff Committee (TPSC) sought public comments to assist USTR in the preparation of its annual report to Congress on Russia's implementation of its obligations as a Member of the World Trade Organization (WTO). USTR is cancelling the public hearing that was scheduled to take place on October 12, 2023.

DATES: The public hearing scheduled for October 12, 2023 is cancelled.

FOR FURTHER INFORMATION CONTACT: Silvia Savich, Deputy Assistant U.S. Trade Representative for Russia and Eurasia, at Silvia.Savich@ustr.eop.gov or (202) 395-2256.

SUPPLEMENTARY INFORMATION: On August 8, 2023, the TPSC sought public comments to assist USTR in the preparation of its annual report to Congress on Russia's implementation of its obligations as a Member of the WTO. See 88 FR 53576 (Aug 8, 2023). The notice included a September 20, 2023 deadline for the submission of written comments and requests to testify at a public hearing that was scheduled to take place on October 12, 2023. In response to the request for comments, USTR received two submissions. USTR also received one request to participate in the public hearing, which subsequently was withdrawn. Therefore, USTR is cancelling the October 12, 2023 public hearing.

Laura Buffo,
Chair of the Trade Policy Staff Committee, Office of the United States Trade Representative.

[FR Doc. 2023-21831 Filed 10-2-23; 8:45 am]

BILLING CODE 3290-F3-P